DEPARTMENT OF LABOR

Employment and Training Administration

[TA-W-56,580]

Milliken & Company, Magnolia Finishing Plant Division, Blacksburg, SC; Notice of Termination of Investigation

Pursuant to section 221 of the Trade Act of 1974, as amended, an investigation was initiated on February 15, 2005, in response to a worker petition filed by a company official on behalf of workers at Milliken & Company, Magnolia Finishing Plant Division, Blacksburg, South Carolina.

The petitioner has requested that the petition be withdrawn. Consequently, the investigation has been terminated.

Signed in Washington, DC this 24th day of February, 2005.
Richard Church,
Certifying Officer, Division of Trade Adjustment Assistance.

[FR Doc. E5-1154 Filed 3-15-05; 8:45 am]

BILLING CODE 4510-30-P